DEPARTMENT OF COMMERCE

National Oceanic and Atmospheric Administration

[RTID 0648-XF514]

Marine Mammals and Endangered Species

AGENCY: National Marine Fisheries Service (NMFS), National Oceanic and Atmospheric Administration (NOAA), Commerce.

ACTION: Notice; issuance of permits, permit amendments, and permit modifications.

SUMMARY: Notice is hereby given that permits, permit amendments, and permit modifications have been issued under the Marine Mammal Protection Act (MMPA) and the Endangered Species Act (ESA), as applicable.

ADDRESSES: The permits and related documents are available for review upon written request via email to NMFS.Pr1Comments@noaa.gov.

FOR FURTHER INFORMATION CONTACT: Courtney Smith, Ph.D. (File No. 26599), Sara Young (File No. 28810), Erin Markin, Ph.D. (File No. 29010), and Shasta McClenahan, Ph.D. (File No. 29182); at (301) 427-8401.

SUPPLEMENTARY INFORMATION: The requested permits have been issued under the MMPA of 1972, as amended (16 U.S.C. 1361 et seq.), the regulations governing the taking and importing of marine mammals (50 CFR part 216), the ESA of 1973, as amended (16 U.S.C. 1531 et seq.), and the regulations governing the taking, importing, and exporting of endangered and threatened species (50 CFR parts 222-226), as applicable. Notices were published in the Federal Register on the dates listed below that requests had been submitted. To locate the Federal Register notice that announced our receipt of the application and a complete description of the activities, go to https://www.federalregister.gov and search for the file number provided in table 1 below.

Table 1—Issued Permits, Permit Amendments, and Permit Modifications
File No. | Version No. | RTID | Applicant | Previous Federal Register notice | Issuance date
26599 | 01 | 0648-XC426 | Florian Graner, Ph.D., Sea-Life Productions, 4021 Beach Drive, Freeland, WA 98249 | 87 FR 65040, October 27, 2022 | December 9, 2025.
28810 | N/A | 0648-XE875 | NMFS Marine Mammal Laboratory, 7600 Sand Point Way NE, Seattle, WA 98115 (Responsible Party: Nancy Friday) | 90 FR 35284, July 25, 2025 | January 9, 2026.
29010 | 01 | 0648-XF251 | Caribbean Oceanic Restoration and Education Foundation, 2608 Fish Bay, St. John, VI 00830 (Responsible Party: Rebecca Gibbel, DVM) | 90 FR 52357, November 20, 2025 | January 22, 2026.
29182 | N/A | 0648-XF380 | Shayna Orens, Cornell University, 235 Hungerford Hill Rd., Ithaca, NY 14850 | 90 FR 57952, December 15, 2025 | January 23, 2026.

In compliance with the National Environmental Policy Act of 1969 (42 U.S.C. 4321 et seq.), a final determination has been made that the activities proposed are categorically excluded from the requirement to prepare an environmental assessment or environmental impact statement.

As required by the ESA, as applicable, issuance of these permits was based on a finding that such permits: (1) were applied for in good faith; (2) will not operate to the disadvantage of such endangered species; and (3) are consistent with the purposes and policies set forth in section 2 of the ESA.

Dated: February 13, 2026.
Shannon Bettridge,
Chief, Marine Mammal and Sea Turtle Conservation Division, Office of Protected Resources, National Marine Fisheries Service.

[FR Doc. 2026-03186 Filed 2-17-26; 8:45 am]

BILLING CODE 3510-22-P